DEPARTMENT OF THE INTERIOR

Office of Surface Mining Reclamation and Enforcement

Notice of Proposed Information for 1029-0047 and 1029-0080

AGENCY: Office of Surface Mining Reclamation and Enforcement.

ACTION: Notice and request for comments.

SUMMARY: In compliance with the Paperwork Reduction Act of 1995, the Office of Surface Mining Reclamation and Enforcement (OSM) is announcing that the information collection requests for the following titles have been forward to the Office of Management and Budget (OMB) for review and approval. These collections are for: 30 CFR parts 816 and 817 relating to the permanent program performance standards—surface mining activities and underground mining activities, and 30 CFR part 850 authorizing State regulatory authorities to develop blaster certification programs. These information collection activities were previously approved by the Office of Management and Budget (OMB), and assigned clearance numbers 1029-0047 and 1029-0080, respectively.

DATES: Comments must be submitted on or before April 16, 2007, to be assured of consideration.

ADDRESSES: Submit comments to the Office of Information and Regulatory Affairs, Office of Management and Budget, Attention: Department of Interior Desk officer, by telefax at (202) 395-6566 or via e-mail to OIRA_Docket@omb.eop.gov. Also, please send a copy of your comments to John A. Trelease, Office of Surface Mining Reclamation and Enforcement, 1951 Constitution Ave., NW., Room 202—SIB, Washington, DC 20240, or electronically to jtrelease@osmre.gov.

FOR FURTHER INFORMATION CONTACT: To request a copy of either information collection request contact John A. Trelease at (202) 208-2783. You may also contact Mr. Trelease at jtrelease@osmre.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. OSM has submitted two requests to OMB to renew its approval for the collections of information. These are found in 30 CFR parts 816 and 817—Permanent Program Performance Standards—Surface and Underground Mining Activities, and 30 CFR part 850, Permanent Regulatory Program Requirements—Standards for Certification of Blasters. OSM is requesting a 3-year term of approval for these information collection activities.

An agency may not conduct or sponsor, and a person is not required to respond to, a collection of information unless it displays a currently valid OMB control number. The OMB control number for these collections of information are 1029-0047 for parts 816 and 817, and 1029-0080 for part 850.

As required under 5 CFR 1320.8(d), a Federal Register notice soliciting comments on these collections of information was published on October 30, 2006 (71 FR 63353). No comments were received. This notice provides the public with an additional 30 days in which to comment on the following information collection activities:

Title: Permanent Program Performance Standards—Surface and Underground Mining Activities, 30 CFR parts 816 and 817.

OMB Control Number: 1029-0047.

Summary: Section 515 an 516 of the Surface Mining Control and Reclamation Act of 1977 provides that permittees conducting coal mining operations shall meet all applicable performance standards of the act. The information collected is used by the regulatory authority in monitoring and inspecting surface coal mining activities to ensure that they are conducted in compliance with the requirements of the Act.

Bureau Form Number: None.

Frequency of Collection: Once, on occasion, quarterly and annually.

Description of Respondents: Coal mining operators and State regulatory authorities.

Total Annual Response 364,325.

Total Annual Burden Hours: 1,502,105.

Total Annual Non-Wage Burden Cost: $365,246.

Title: Permanent Regulatory Program Requirements—Standards for Certification of Blasters, 30 CFR part 850.

OMB Control Number: 1029-0080.

Summary: This part establishes the requirements and procedures applicable to the development of regulatory programs for the training, examination, and certification of persons engaging in or directly responsible for the use of explosives in surface coal mining operations.

Bureau Form Number: None.

Frequency of Collection: Once.

Description of Respondents: State regulatory authorities.

Total Annual Responses: 1.

Total Annual Burden Hours: 173.

Send comments on the need for the collection of information for the performance of the functions of the agency; the accuracy of the agency's burden estimates; ways to enhance the quality, utility and clarity of the information collection; and ways to minimize the information collection burden on respondents, such as use of automated means of collection of the information, to the following address. Please refer to the appropriate OMB control number in all correspondence.

Dated: January 9, 2007.
John R. Craynon,
Chief Division of Regulatory Support.

[FR Doc. 07-1213 Filed 3-14-07; 8:45 am]

BILLING CODE 4310-05-M